DEPARTMENT OF TRANSPORTATION

Surface Transportation Board

[STB Finance Docket No. 34066]

City of Peoria, IL—Acquisition and Operation Exemption—Union Pacific Railroad Company

City of Peoria, IL (City), a noncarrier, has filed a verified notice of exemption under 49 CFR 1150.31 to acquire from Union Pacific Railroad Company (UP) and operate a 1.9-mile line of railroad, commonly known as the Pioneer Industrial Lead (Lead),¹ that extends easterly from UP's Peoria Subdivision, at approximately milepost 71.5, to the end of a track, a short distance west of University Avenue, in the City of Peoria, Peoria County, IL.²

¹ The City notes that the Lead is not delineated by milepost numbers.

² The City indicates that there are no active shippers presently on the Lead and that, if the City were called upon to operate the Lead, it would do so or would arrange for a rail operator to do so.

The transaction was scheduled to be consummated on July 10, 2001 (7 days after the exemption was filed).

If the verified notice contains false or misleading information, the exemption is void ab initio. Petitions to reopen the proceeding to revoke the exemption under 49 U.S.C. 10502(d) may be filed at any time. The filing of a petition to revoke will not automatically stay the transaction.

An original and 10 copies of all pleadings, referring to STB Finance Docket No. 34066 must be filed with the Surface Transportation Board, Office of the Secretary, Case Control Unit, 1925 K Street, N.W., Washington, DC 20423-0001. In addition, a copy of each pleading must be served on Thomas F. McFarland, Esq., 208 South LaSalle Street, Suite 1890, Chicago, IL 60604-1194.

Board decisions and notices are available on our website at www.stb.dot.gov.

Decided: July 18, 2001.
By the Board, David M. Konschnik, Director, Office of Proceedings.
Vernon A. Williams,
Secretary.

[FR Doc. 01-18570 Filed 7-24-01; 8:45 am]

BILLING CODE 4915-00-P